DEPARTMENT OF ENERGY

Federal Energy Regulatory Commission

[Project No. 14110-001]

Black Canyon Hydro, LLC; Notice of Environmental Site Review

On Wednesday, October 3, 2012, at 3 p.m., Commission staff will be participating in an environmental site review for the proposed Black Canyon Hydroelectric Project. All interested participants should meet at 44937 Southeast 70th Street, Snoqualmie, Washington 98065. For additional information, please contact Brandon Cherry at 202-502-8328.

Dated: September 24, 2012.
Kimberly D. Bose,
Secretary.

[FR Doc. 2012-23936 Filed 9-27-12; 8:45 am]

BILLING CODE 6717-01-P